DEPARTMENT OF LABOR

Employment and Training Administration

Unemployment Compensation for Ex-servicemembers (UCX) Program: Unemployment Insurance Program Letter Amending the Consolidated List of “Acceptable” Narrative Reasons for Separation Transmitted in UIPL No. 3-95, Change 2 To Include Separations From the Army Under the Army National Guard Combat Reform Initiative Program

ETA has responsibility for administration of the UCX program, providing unemployment compensation benefits for ex-servicemembers. ETA issues interpretations affecting the UCX program in Unemployment Insurance Program Letters (UIPLs) to the State Employment Security Agencies (SESAs). The UIPL described below is published in the Federal Register in order to inform the public.

UIPL 9-95, Change 3

To be eligible for UCX, an ex-servicemember must, among other requirements, meet the definition of “Federal service.” This requires that the servicemember be separated under honorable conditions and have completed a first full term of service. If separated before completing the first full term, the separation must be for, among other reasons, “the convenience of the Government under an early release program.”

The Department of Labor was recently notified by the Department of the Army of an ongoing program called the Army National Guard Combat Reform Initiative (ANGCRI). It is an early release program for the convenience of the Government mandated by Congress that directs the Army to release at least 150 lieutenants each year so they can serve the remainder of their active duty obligation in the National Guard. The narrative reason, Miscellaneous/General Reasons, is used on DD Forms 214 for those lieutenants who separate from active duty before completing their first full term under the ANGCRI program. The program started with separations occurring May 1, 1999, through September 30, 1998 (FY 98 Program), and May 1, 1999, through September 30, 1999 (FR 99 Program) program. This program will be ongoing. Consequently, UIPL No. 3-95 Change 3 was transmitted to all SEASs to amend the consolidated list of narrative reasons for separation transmitted to all SEASs in UIPL 3-95 Change 2.

Dated: February 15, 2000.
Raymond L. Bramucci,
Assistant Secretary of Labor.

U.S. Department of Labor, Employment and Training Administration, Washington, D.C. 20210

Classification: UI

Correspondence Symbol: TEUPDI

Date: February 17, 2000

Directive: Unemployment Insurance Program Letter No. 3-95, Change 3

To: All State Employment Security Agencies

From: Grace A. Kilbane, Administrator, Office of Workforce Security

Subject: UCX Narrative Reasons for Separation from Military Service

1. Purpose. to amend the consolidated list of “acceptable” narrative reasons for separation transmitted in Unemployment Insurance Program Letter (UIPL) No. 3-95 and UIPL No. 3-95, Changes 1 and 2 to include separations from the Army under the Army National Guard Combat Reform Initiative (ANGCRI) program.

2. References. UIPL No. 3-95; UIPL No. 3-95, Changes 1 and 2; 5 U.S.C. 8521(a)(1); 20 CFR Part 614; Section 1111 of P.L. 102-484; and Section 514 of P.L. 104-106.

3. Background. The Department of the Army recently notified the Department of Labor (DOL) of an ongoing program, ANGCRI, under which Congress directed the Army to release early at least 150 lieutenants each year so they can serve the remainder of their active duty obligation in the National Guard. This program started with separations occurring May 1, 1998, through September 30, 1998 (FY 98 Program) and May 1, 1999, through September 30, 1999, (FY 99 Program). This program will be ongoing every year. The narrative reason “Miscellaneous/General Reasons” is used on DD Forms 214 of those lieutenants separating from active duty before completing their first full term under this program. However, there is no other information on these lieutenants' DD Forms 214 to indicate that they are separated under the ANGCRI program.

4. Instructions. DOL has determined that separations under the ANGCRI program are for the convenience of the government under an early release/force reduction program. Thus, Army lieutenants separated from active duty under this program meet the definition of “Federal service” under 5 U.S.C. 8521(a)(1)(B)(ii)(I). Separations under the ANGCRI program occurred between May 1, 1998, through September 30, 1998, and May 1, 1999, through September 30, 1999, and they will continue every year thereafter for the May 1 through September 30 period. Item (Block) 28 ex-servicemembers DD Forms 214 separated under the ANGCRI program will contain the narrative reason for separation “Miscellaneous/General Reasons.” However, since there is no information on the DD Form 214 that indicates separation from active duty under the ANGCRI program, the SESA must require the ex-servicemember to provide it with “Orders to Report” and “Orders of Release” or “Orders to Report” containing an endorsement of release which contain information that the servicemember was discharged under the ANGCRI program.

The contents of this directive will also be issued as a Change 19 to ET Handbook No. 384, Second Edition.

5. Effective Date. The amendment to the consolidated list of “acceptable” narrative reasons for separation contained in this Change 3 to UIPL 3-95 shall be effective for all initial claims filed on and after the date of this directive. However, where State law permits, monetary determination or redetermination must be issued when a claimant requests a determination or redetermination on a new or previously denied claim or files an additional or renewed claim for benefits. Any determination or redetermination of monetary eligibility must be based on the list of “acceptable” narrative reasons for separation attached to this Change 3 of UIPL 3-95.

Determinations or redeterminations required by this Change 3 to UIPL 3-95 may result in the payment of benefits for retroactive weeks of unemployment to ex-servicemembers separated under the ANGCRI program. The reason for this is that the category of servicemembers separated under the ANGCRI program (which fits within the scope of discharges for the convenience of the government under an early release program) was inadvertently left off the list of narrative reasons for separation issued with UIPL 3-95, Change 2.

6. Action Required. SESAs are required to:

a. Distribute the contents of this directive and the attachment to all appropriate staff members.

b. Destroy the Attachment to UIPL 3-95 Change 2 and utilize the Attachment to this Change 3 to UIPL 3-95.

c. Announce in a newspaper of general circulation, and in other appropriate media such as veterans publications, the application of the operating instructions contained in this directive and their effect on UCX eligibility. The announcements shall include mention of the authority under 20 CFR 614.9(a) to issue determinations or redeterminations.

7. Inquiries. Direct inquiries to the appropriate Regional Office.

8. Attachment. Revised List of “Acceptable” Narrative Reasons for Separation Meeting the Requirements of 5 U.S.C. 8521(a)(1)(B)(ii)(I)-(IV).

Attachment

Narrative Reasons for Separation

“Acceptable” Narrative Reasons for Separation Meeting the Requirements of 5 U.S.C. 8521(a)(1)(B)(ii)(I)-(IV).

For the convenience of the government under an early release program (5 U.S.C. 8521(a)(1)(b)(ii)(I)):

Medal of Honor Recipient

Completion of Required Active Service

Insufficient Retainability (Economic Reasons)

Reduction in Force

To Attend School

Holiday Early Release Program

Defective Enlistment Agreement

Erroneous Entry (Other)

Intradepartmental Transfer*

Miscellaneous/General Reasons* *(see below)

* Effective for separations on or after September 1, 1994.

** Pertaining only to Army Lieutenants' separations under the ANGCRI program occurring May 1, 1998 through September 30, 1998 and May 1, 1999 through September 30, 1999, and every year thereafter for the May 1 through September 30 period. Also requires “Orders to Report” and “Orders of Release” or “Orders to Report” containing an endorsement of release to be presented to the SESA indicating the servicemember was discharged under the ANGCRI program.

Because of medical disqualification, pregnancy, parenthood, or Service-incurred injury or disability (5 U.S.C. 8521(a)(1)(B)(ii)(II)):

Pregnancy or Childbirth

Parenthood or Custody of Minor Children

Conditions, not Disability

Disability, Severance Pay

Disability, Permanent

Disability, Temporary

Disability, Existed Prior to Service, PEB

Disability, Existed Prior to Service, Med BD

Disability, Aggravated

Disability, Other

Because of hardship (5 U.S.C. 8521(a)(1)(B)(ii)(III)):

Surviving Member

Hardship

Because of personality disorders or inaptitude, but only if the service was continuous for 365 days or more (5 U.S.C. 8521(a)(1)(B)(ii)(IV)):

Personality Disorder

The following are narrative reasons for separation that DOL has determined constitute “inaptitude” within the meaning of 5 U.S.C. 8521(a)(1)(b)(ii)(IV):

Conscientious Objector

Weight Control Failure

Ecclesiastical Endorsement

Secretarial Authority

Physical Standards

Erroneous Entry, Alcohol Abuse

Erroneous Entry, Drug Abuse

Non-selection, Permanent Promotion

Non-selection, Temporary Promotion

Failure to Complete a Commission or Warrant Program

Failure to Complete a Course of Instruction

Unsatisfactory Performance

Substandard Performance

Personal Alcohol Abuse

Alcohol Rehabilitation Failure

Drug Rehabilitation Failure

Military Personnel Security Program

Homosexual Admission

Homosexual Act

Non-retention on Active Duty

Effective Date: The narrative reasons for separation that the Department of Labor (DOL) has determined constitute “inaptitude” within the meaning of 5 U.S.C. 8521(a)(1)(B)(ii)(IV), listed above, shall be effective for all initial claims filed on and after the November 10, 1998, issuance date of UIPL No. 3-95, Change 2.

Where State law permits, new eligibility determinations must be issued when: (1) a claimant requests a determination or redetermination on a new or previously denied claim, or files an additional or renewed claim for benefits, and (2) the claimant's military service is recent enough to support a current claim for unemployment benefits.

However, benefits payable based upon a narrative reason for separation that DOL has determined constitutes “inaptitude” will be payable only for weeks of unemployment beginning after November 10, 1998.

[FR Doc. 00-4133 Filed 2-18-00; 8:45 am]

BILLING CODE 4510-30-M